COMMODITY FUTURES TRADING COMMISSION

Sunshine Act Meetings

FEDERAL REGISTER CITATION OF PREVIOUS ANNOUNCEMENT: 85 FR 68566, October 29, 2020.

PREVIOUSLY ANNOUNCED TIME AND DATE OF THE MEETING: 9:30 a.m. EST, Monday, November 2, 2020.

CHANGES IN THE MEETING: The time of the meeting has changed. This meeting will now start at 10:00 a.m. EST.

CONTACT PERSON FOR MORE INFORMATION: Christopher Kirkpatrick, 202-418-5964.

Authority: 5 U.S.C. 552b.

Dated: October 29, 2020.
Christopher Kirkpatrick,
Secretary of the Commission.

[FR Doc. 2020-24315 Filed 10-29-20; 11:15 am]

BILLING CODE 6351-01-P